DEPARTMENT OF HEALTH AND HUMAN SERVICES

Administration for Children and Families

[Office of Management and Budget #: 0970-0425]

Submission for Office of Management and Budget Review; Children's Justice Act Program Instruction

AGENCY: Children's Bureau, Administration for Children and Families, U.S. Department of Health and Human Services.

ACTION: Request for Public Comments.

SUMMARY: The Administration for Children and Families (ACF) is requesting a 3-year extension of the Children's Justice Act Program Instruction (Office of Management and Budget (OMB #0970-0425, expiration March 31,2026). There are no changes to the requirements, but the instructions have been streamlined to reduce burden, provide clarification, and improve data collection.

DATES: Comments due April 3, 2026.

ADDRESSES: The public may view and comment on this information collection request at: https://www.reginfo.gov/public/do/PRAViewICR?ref_nbr=202602-0970-014. You can also obtain copies of the proposed collection of information by emailing infocollection@acf.hhs.gov. Identify all emailed requests by the title of the information collection.

SUPPLEMENTARY INFORMATION: Description: The Children's Justice Act (CJA) Program Instruction, prepared in response to the enactment of the CJA, Title I of Public Law 111-320, Child Abuse Prevention and Treatment Act Reauthorization of 2010, provides direction to the states and territories to accomplish the purposes of assisting states in developing, establishing and operating programs designed to improve: (1) the assessment and investigation of suspected child abuse and neglect cases, including cases of suspected child sexual abuse and exploitation, in a manner that limits additional trauma to the child and the child's family; (2) the assessment and investigation of cases of suspected child abuse-related fatalities and suspected child neglect-related fatalities; (3) the investigation and prosecution of cases of child abuse and neglect, including child sexual abuse and exploitation; and (4) the assessment and investigation of cases involving children with disabilities or serious health-related problems who are suspected victims of child abuse or neglect. This Program Instruction contains information collection requirements that are found in Public Law 111-320 at sections 107(b) and 107(d), and pursuant to receiving a grant award. The information being collected is required by statute to be submitted pursuant to receiving a grant award. The information submitted will be used by the agency to ensure compliance with the statute; to monitor, evaluate and measure grantee achievements in addressing the investigation and prosecution of child abuse and neglect; and to report to Congress.

Respondents: State Governments.

Annual Burden Estimates

The length of the CJA Program Instruction has been reduced by about 67 percent from 17 pages to 5.5 pages. Edits have been made to remove unnecessary information, remove requests for information not required by statute, clarify requirements, reduce duplicative information and requests for information, and simplify language. As a result of the reduction in the length of time needed to both read and respond to the Program Instruction, the estimated response burden has been lowered by 33 percent from 60 hours to 40 hours per response.

Instrument | Total number of respondents | Annual number of responses per respondent | Average burden hours per response | Annual burden hours
Annual Report and Application | 52 | 1 | 40 | 2,080

Authority: 42 U.S.C. 5106c section 107 (b)4; and 42 U.S.C. 5106 section 107 (B)5.

Mary C. Jones,
ACF/OPRE Certifying Officer.

[FR Doc. 2026-04248 Filed 3-3-26; 8:45 am]

BILLING CODE 4184-01-P